DEPARTMENT OF JUSTICE

Notice of Lodging of Consent Decree Pursuant to the Comprehensive Environmental Response, Compensation, and Liability Act

In accordance with Departmental policy, 28 CFR 50.7, notice is hereby given that a proposed consent decree in United States v. State of Washington Through The Washington Department of Natural Resources, Civil Action No. C03-5543RBL was lodged on October 6, 2003, with the United States District Court for the Western District of Washington. The consent decree requires the defendant to perform injunctive relief, requiring two groups of performing parties to perform the cleanup of the Thea Foss and Wheeler Osgood Waterway Problem Areas of the Commencement Bay/Nearshore Tideflats Superfund Site and the funding parties to pay a total of $13,000,000 to fund cleanup activities at the Site.

The Department of Justice will receive, for a period of thirty (30) days from the date of this publication, comments relating to the proposed consent decrees. Comments should be addressed to the Assistant Attorney General, Environmental and Natural Resources Division, P.O. Box 7611, U.S. Department of Justice, Washington, DC 20044-7611, and should refer to United States v. State of Washington Through The Washington Department of Natural Resources, DOJ Ref. #90-11-2-1049/1.

The proposed consent decrees may be examined at the office of the United States Attorney, 601 Union Street, Suite 5100, Seattle, WA 98101 and at U.S. EPA Region 10, 1200 Sixth Avenue, Seattle, WA 98101. During the comment period, the consent decrees may be examined on the following Department of Justice Web site, http://www.usdoj.gov/enrd/open.html. Copies of the consent decrees also may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy, please enclose a check in the amount of $11.25, (25 cents per page reproduction cost) payable to the U.S. Treasury.

Robert Maher,
Assistant Section Chief, Environmental Enforcement Section.

[FR Doc. 03-26242 Filed 10-16-03; 8:45 am]

BILLING CODE 4410-15-M